ENVIRONMENTAL PROTECTION AGENCY

[EPA-HQ-OPPT-2024-0038; FRL-11694-01-OCSPP]

Draft Approach for Implementation of the EPA Label Program for Low Embodied Carbon Construction Materials; Notice of Availability, Webinar and Request for Comment

AGENCY: Environmental Protection Agency (EPA).

ACTION: Notice.

SUMMARY: The Environmental Protection Agency (EPA) is announcing the availability of and seeking public comment on a document that describes its draft approach for implementation of the EPA label program for low embodied carbon construction materials (Draft Label Program Approach), and is announcing a webinar on February 27, 2024. The Inflation Reduction Act authorized $100 million to EPA to develop a program to identify and label construction materials and products that have substantially lower embodied carbon, in coordination with the General Services Administration (GSA) and the Department of Transportation's Federal Highway Administration (FHWA).

DATES:

Webinar: February 27, 2024, noon-1 p.m. EST.

Registration: To receive the webcast meeting link and audio teleconference information before the meeting, you must register by 5 p.m. EST on February 26, 2024.

Special Accommodations: To allow EPA time to process your request for special accommodations, please submit your request to EPA by 5 p.m. EST on February 16, 2024.

Written comments: Submit your comments on or before March 18, 2024.

ADDRESSES:

Webinar: Register online at https://www.zoomgov.com/webinar/register/WN_UK3t7WwXToiRNIYFlml7CA#/ registration.

Special Accommodations: Please contact the person listed under FOR FURTHER INFORMATION CONTACT.

Written comments: Submit your comments, identified by docket identification (ID) number EPA-HQ-OPPT-2024-0038, through https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Kersey Manliclic, Data Gathering and Analysis Division (4410G), Office of Chemical Safety and Pollution Prevention, Environmental Protection Agency, 1200 Pennsylvania Ave. NW, Washington, DC 20460-0001; telephone number: (202) 566-9981; email address: manliclic.kersey@epa.gov.

SUPPLEMENTARY INFORMATION:

I. Executive Summary

A. Does this action apply to me?

This is directed to the public in general. This notice may be of specific interest to persons who represent federal contracting officers, construction contractors and specifiers for federal agencies. It may also be of interest to the following entities including federal agencies setting specifications and/or requirements for federal construction (e.g., GSA, FHWA, Department of Defense); manufacturers of lower embodied carbon construction materials; entities purchasing products covered by the Draft Label Program Approach for products used in federally funded construction projects; entities setting criteria for programs which provide funding for materials and products procured as part of transportation infrastructure and/or building construction projects (e.g., FHWA); and architects, engineers, and other procurement-adjacent professionals and organizations aiming to use lower embodied carbon construction materials and products in their projects, rating systems, and construction planning tools.

B. What is the Agency's authority for taking this action?

IRA Section 60116 authorized $100 million to EPA to develop a program to identify and label construction materials and products that have substantially lower embodied carbon, in coordination with the GSA and the FHWA.

C. What action is the agency taking?

The Agency is requesting comment on the document titled “Draft Approach for Implementation of the EPA Label Program for Low Embodied Carbon Construction Materials” (Draft Label Program Approach), which is available in the docket. EPA is requesting information on a number of remaining questions that will help shape and refine the program. EPA is also announcing a stakeholder engagement opportunity through a webinar. During the webinar EPA will give a presentation on the Draft Label Program Approach and provide an opportunity for the public to provide comments.

D. What should I consider as I prepare my comments?

1. Submitting CBI. Do not submit CBI to EPA through email or https://www.regulations.gov. If you wish to include CBI in your comment, please follow the applicable instructions at https://www.epa.gov/dockets/commenting-epa-dockets#rules and clearly mark the information that you claim to be CBI. Information so marked will not be disclosed except in accordance with procedures set forth in 40 CFR parts 2 and 703, as applicable.

2. Tips for preparing your comments. When preparing and submitting your comments, see the commenting tips at https://www.epa.gov/dockets/commenting-epa-dockets.html.

II. Background

An increasing number of U.S. federal, state, and local government procurement policies, as well as large institutional procurement policies, are aimed at driving down greenhouse gas (GHG) emissions related to construction materials. These policies often require manufacturers to disclose the embodied carbon of the materials and products they produce to be eligible for procurement. Embodied carbon refers to the amount of GHG emissions associated with the extraction, production, transport and manufacturing of materials and products.

The IRA, passed by Congress and signed into law in August 2022, leverages federal procurement and funding of buildings and infrastructure to catalyze markets for American-made construction materials and products with lower embodied carbon (also known as embodied greenhouse gas emissions). IRA Section 60116 provided EPA with $100 million dollars to develop and carry out a program to identify and label construction materials and products that have substantially lower levels of embodied greenhouse gas emissions associated with all relevant stages of production, use, and disposal, as compared to estimated industry averages of similar materials or products. EPA is committed to developing a label program that creates an easy and reliable way for purchasers to identify and procure such lower embodied carbon construction materials and products.

The Draft Label Program Approach was developed by EPA in collaboration with stakeholders through a series of webinars announced in the Federal Register of January 26, 2023, titled “Stakeholder Engagement Opportunities on Inflation Reduction Act Programs To Reduce Embodied Greenhouse Gas Emissions Associated With Construction Materials and Products” (88 FR 5002 (FRL-10439-01-OCSPP)). These webinars requested initial feedback on establishing new grant and technical assistance programs, and a carbon labeling program for construction materials with substantially lower levels of embodied greenhouse gas emissions. The Draft Label Program Approach has been informed greatly by the input received from the Request for Information (RFI) responses submitted, and by extensive collaboration with other federal agencies, including the GSA, FHWA, and others.

III. Request for Public Comment

A. What feedback does EPA hope to gain from the public comments?

In the Draft Label Program Approach, the Agency has outlined the following:

• An initial focus on steel construction products, asphalt mixtures, concrete mixtures, and flat glass, consistent with EPA's 2022 Interim Determination and the Federal Buy Clean Initiative;

• A phased approach that all material categories will be able to follow at a cadence that aligns with that material's market maturity and data availability;

• A plan to label specific construction materials and products based on the global warming potential provided via robust environmental product declarations;

• A publicly accessible online registry of certified materials and products;

• A tiered rating system of certification for materials and products; and

• A conformity assessment and verification system aligned with the existing Environmental Product Declaration (EPD) verification system, and consistent with standards and best practices within the ISO IEC 17000 series and EPA's Framework for Assessing Environmental Performance for Specifications, Standards, and Ecolabels for Federal Purchasing. For more information about EPA's Framework and related recommendations see https://www.epa.gov/greenerproducts/framework-assessment-environmental-performance-standards-and-ecolabels-federal.

EPA is seeking public input on specific aspects of the Draft Label Program Approach. The following information and topics may help inform stakeholder input on data quality improvements, material threshold settings, certification and labeling, and the overall program approach.

1. Data quality improvements. EPA has begun work to implement Phase I of the label program, which includes:

• Development of a Vision for Improving Background Data with the Interagency Background Data Team, which will be published in the coming weeks.

• Development of a proposed process for ensuring datasets directed for use in Life Cycle Analysis (LCA) development in Product Category Rules (PCRs) are of sufficient quality to be used by PCR Technical Committees. EPA will issue a Dataset Quality Assessment methodology in the coming weeks.

• Development of PCR criteria to be utilized under the label program to help ensure that any Environmental Product Declarations (EPDs) used to develop GWP thresholds for the label program or identify lower embodied carbon materials qualifying for the label are sufficiently robust. EPA will be releasing the draft PCR criteria for public comment in the coming weeks.

To inform development of these documents and build upon input already received via the 2022 RFI, EPA welcomes additional input on ways to improve background data, enhance publicly available datasets in the LCA Data Commons, and facilitate PCR improvements.

2. Material threshold setting. EPA is considering several options for addressing regional differences specific to the sourcing of materials and products in the Global Warming Potential (GWP) threshold setting process as part of Phase II of the Draft Label Program Approach. EPA welcomes specific input on what methods would be effective, feasible, and time- and cost-effective for specifying regions where necessary (e.g., AASHTO Climate Zones, groupings of states, market share or geological breakdowns).

EPA is interested in ensuring that GWP thresholds are based on sufficiently representative data, recognizing that what constitutes “representative” will vary by material. EPA plans to conduct proper statistical analysis on EPD availability, however, EPA is aware of the time constraints in doing so. EPA welcomes specific input on how to effectively define “representative” data for a specific material type when setting thresholds (e.g., at least 30-50 EPDs for each material type in each region, or X% of all EPDs for a material type in each region).

3. Certifying and labeling materials and products. EPA recognizes the need for credible conformity assessment to ensure stakeholder confidence in the Draft Label Program Approach. EPA welcomes specific input on what qualifications/accreditations should be considered (or required) of EPD verifiers to demonstrate sufficient knowledge and experience. EPA is interested in stakeholder feedback on whether the conformity criteria and processes used by EPA programs (e.g., ENERGY STAR, WaterSense), recommended in the EPA Framework for the Assessment of Environmental Performance Standards and Ecolabels for Federal Purchasing, and/or those used for EPDs in the market today should be applied to this Draft Label Program Approach available at https://www.epa.gov/greenerproducts/framework-assessment-environmental-performance-standards-and-ecolabels-federal.

Additionally, EPA is interested in hearing from EPD verifiers and Conformity Assessment Bodies (CABs) that would like to provide conformity assessment/verification services for this Draft Label Program Approach.

4. Overall approach. EPA recognizes the importance of transparency and stakeholder input as we continue to develop this program. Other feedback is welcome in the form of questions, comments or additional information for consideration as we move forward.

B. What is the request for information?

EPA encourages all potentially interested parties, including individuals, governmental and non-governmental organizations, non-profit organizations, community-based organizations, labor organizations, academic institutions, research institutions, community health centers and clinics, public health administration and environmental health administration programs, and private sector entities to comment on the Draft Label Program Approach. To the extent possible, the Agency asks commenters to please cite any public data related to or that supports responses, and to the extent permissible, describe any supporting data that is not publicly available.

Authority: 26 U.S.C. 55 et seq.

Dated: February 8, 2024.
Jennie Romer,
Deputy Assistant Administrator, Office of Chemical Safety and Pollution Prevention.

[FR Doc. 2024-03083 Filed 2-14-24; 8:45 am]

BILLING CODE 6560-50-P